ENVIRONMENTAL PROTECTION AGENCY

40 CFR Parts 52

[SC-041, 046-200211(a); FRL-7406-7]

Approval and Promulgation of Implementation Plans; South Carolina; Adoption of Revision Governing Credible Evidence and Removal of Standard 3

AGENCY: Environmental Protection Agency (EPA).

ACTION: Direct final rule.

SUMMARY: The EPA is approving a revision to the State Implementation Plan (SIP) submitted on October 1, 2002, by the State of South Carolina, Department of Health and Environmental Control (Department). This revision consisted of an addition to Regulation 61-62.1, Definitions and General Requirements, entitled “Section V—Credible Evidence.” The submission of Section V—Credible Evidence by South Carolina is to meet the requirements for credible evidence set forth in EPA's May 23, 1994, SIP call letter. EPA is also approving a correction to the SIP regarding removal of Standard 3 “Emissions from Incinerators” from the SIP as requested by the State of South Carolina.

DATES: This direct final rule is effective January 13, 2003 without further notice, unless EPA receives adverse comment by December 13, 2002. If adverse comment is received, EPA will publish a timely withdrawal of the direct final rule in the Federal Register and inform the public that the rule will not take effect.

ADDRESSES: Written comments should be addressed to: Sean Lakeman, EPA Region 4, Air Planning Branch, 61 Forsyth Street, SW, Atlanta, Georgia 30303-8960. Copies of the State submittal is available at the following addresses for inspection during normal business hours: Environmental Protection Agency, Region 4, Air Planning Branch, 61 Forsyth Street, SW, Atlanta, Georgia 30303-8960. Sean Lakeman, 404/562-9043. South Carolina Department of Health and Environmental Control, 2600 Bull Street, Columbia, South Carolina 29201-1708.

FOR FURTHER INFORMATION CONTACT: Sean Lakeman at 404/562-9043, or by electronic mail at lakeman.sean@epa.gov.

SUPPLEMENTARY INFORMATION:

I. Background On Credible Evidence

II. South Carolina's Response to Credible Evidence

III. Removal of Standard 3

IV. Final Action

V. Administrative Requirements

I. Background On Credible Evidence

On October 22, 1993, the EPA published a Federal Register document proposing an Enhanced Monitoring Program Rule. In that document, the EPA proposed both new regulations and amendments to several existing air pollution program regulations. To address the revisions to the Clean Air Act (CAA) regarding the use of any credible evidence the EPA issued a SIP call to all states in a letter dated May 23, 1994. The purpose of this letter was to require the states to revise their SIP to allow for the use of enhanced monitoring as a means of establishing compliance and “any credible evidence” to prove violations. A Federal Implementation Plan (FIP) was to be promulgated if the states failed to correct the deficiencies in the SIP by June 30, 1995. However, during the time between which the Enhanced Monitoring Program Rule was proposed and the FIP was to be in place, EPA separated the enhanced monitoring rule into two new parts: “any credible evidence” and “compliance assured monitoring” (CAM); and promulgated them in separate Federal Register documents. The final rule for “any credible evidence” was promulgated on February 24, 1997.

II. South Carolina's Response to Credible Evidence

In response to the May 23, 1994, SIP call, the Department submitted a revision to South Carolina's SIP on October 1, 2002. This revision consisted of the addition of Section V—Credible Evidence to Regulation 61-62.1 Definitions and General Requirements. The purpose of Section V regarding the demonstration of compliance or noncompliance, or the certification of compliance is:

• to clarify that any credible evidence can be used,

• to eliminate any potential ambiguity in language regarding exclusive reliance on reference test methods, and

• to curtail language that limits the types of testing or monitoring data that may be used. Section V specifically allows for the use of any credible evidence “in the determination of non-compliance by the Department or for compliance certification by the owners or operators of stationary sources.” In addition, Section V allows for “credible evidence” to be used to determine whether or not a violation has or is occurring with respect to any standard within the plan.

III. Removal of Standard 3

In a letter dated May 5, 2000, South Carolina requested the removal of Standard 3 “Emissions from Incinerators” from the SIP. EPA has determined that South Carolina's Standard 3 “Emissions from Incinerators” was erroneously incorporated into the SIP. EPA is removing this rule from the approve South Carolina SIP because the rule does not have a reasonable connection to the National Ambient Air Quality Standard (NAAQS) and related air quality goals of Section 110 of the Clean Air Act (CAA). The intended effect of this correction to the SIP is to make the SIP consistent with the requirements of the CAA, as amended in 1990, regarding EPA action on SIP submittals and SIPs for national primary and secondary ambient air quality standards.

IV. Final Action

After a thorough review of the submittal, the EPA has found that the October 1, 2002, submittal is adequate to meet the credible evidence requirements set forth in the May 1994, SIP call. EPA is also approving a correction to the SIP regarding removal of Standard 3 “Emissions from Incinerators” from the SIP as requested by the State of South Carolina.

The EPA is publishing this rule without prior proposal because the Agency views this as a noncontroversial submittal and anticipates no adverse comments. However, in the proposed rules section of this Federal Register publication, EPA is publishing a separate document that will serve as the proposal to approve the SIP revision should adverse comments be filed. This rule will be effective January 13, 2003 without further notice unless the Agency receives adverse comments by December 13, 2002.

If the EPA receives such comments, then EPA will publish a document withdrawing the final rule and informing the public that the rule will not take effect. All public comments received will then be addressed in a subsequent final rule based on the proposed rule. The EPA will not institute a second comment period. Parties interested in commenting should do so at this time. If no such comments are received, the public is advised that this rule will be effective on January 13, 2003 and no further action will be taken on the proposed rule. Please note that if we receive adverse comment on an amendment, paragraph, or section of this rule and if that provision may be severed from the remainder of the rule, we may adopt as final those provisions of the rule that are not the subject of an adverse comment.

V. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by January 13, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Particulate matter, Reporting and recordkeeping requirements, Sulfur oxides, Volatile organic compounds.

Dated: November 1, 2002.
A. Stanley Meiburg,
Acting Regional Administrator, Region 4.

Chapter I, title 40, Code of Federal Regulations, is amended as follows:

PART 52—[AMENDED]

1. The authority citation for part 52 continues to read as follows:

Authority: 42 U.S.C. 7401 et seq.

Subpart PP—South Carolina

2. In § 52.2120 the table in paragraph (c) is amended by adding a new entry under Regulation No. 62.1 after Section III for “Section V Credible Evidence” and removing the entry for “Standard No. 3 Emissions from Incinerators” to read as follows:

§ 52.2120 Identification of plan.

* * * * *

(c) * * *

Air Pollution Control Regulations for South Carolina
State citation | Title/subject | State effective date | EPA approval date | Federal register notice
Regulation No. 62.1 | Definitions, Permits Requirements and Emissions Inventory
* * * * * * *
Section V | Credible Evidence | 07/27/01 | 01/13/03 | 67 FR 68767
* * * * * * *

* * * * *

[FR Doc. 02-28698 Filed 11-12-02; 8:45 am]

BILLING CODE 6560-50-P